ENVIRONMENTAL PROTECTION AGENCY

[EPA-HQ-OA-2006-0074; FRL—9913-54-OEI]

Information Collection Request Submitted to OMB for Review and Approval; Comment Request; Generic Clearance for the Collection of Qualitative Feedback on Agency Service Delivery (Renewal)

AGENCY: Environmental Protection Agency (EPA).

ACTION: Notice.

SUMMARY: The Environmental Protection Agency has submitted an information collection request (ICR), “Generic Clearance for the Collection of Qualitative Feedback on Agency Service Delivery (Renewal) ” (EPA ICR No. 2434.23, OMB Control No. 2010-0042 to the Office of Management and Budget (OMB) for review and approval in accordance with the Paperwork Reduction Act (44 U.S.C. 3501 et seq.). This is a proposed extension of the ICR, which is currently approved through September 30, 2014. Public comments were previously requested via the Federal Register (79 FR 22816) on April 24, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 4, 2014.

ADDRESSES: Submit your comments, referencing Docket ID Number EPA-HQ-OA-2006-0074, to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Michelle Mandolia, Office of Police, (1807T), Environmental Protection Agency, 1200 Pennsylvania Ave. NW., Washington, DC 20460; telephone number: 202-566-2198; fax number: 202-566-2211; email address: Mandolia.Michelle@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The information collection activity will garner qualitative customer and stakeholder feedback in an efficient, timely manner, in accordance with the Administration's commitment to improving service delivery. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management. The Authorizing Statute is EO12862—Setting Customer Service Standards.

Form Numbers: None.

Respondents/affected entities: Individuals, Private Sector, State, Local or Tribal Governments.

Respondent's obligation to respond: Voluntary.

Estimated number of respondents: 6,000.

Frequency of response: Once.

Total estimated burden: 1,500 hours (per year). Burden is defined at 5 CFR 1320.03(b)

Total estimated cost: $0 (per year), includes $0 annualized capital or operation & maintenance costs.

Changes in the Estimates: There is an increase of 114 hours in the total estimated respondent burden compared with the ICR currently approved by OMB. This increase is due to an increased use of the generic clearance over the past three years.

Spencer W. Clark,
Acting Director, Collection Strategies Division.

[FR Doc. 2014-18471 Filed 8-4-14; 8:45 am]

BILLING CODE 6560-50-P